COMMISSION ON CIVIL RIGHTS

Agenda and Notice of Public Meeting of the Rhode Island Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Rhode Island Advisory Committee to the Commission will convene at 12:00 p.m. (EDT) on Tuesday, April 30, 2019, at Barrett and Singal, One Richmond Sq., Suite 165W, Main Conference Room, Providence, RI 02906. The purpose of the meeting is to discuss the Committee's next civil rights project.

DATES: Tuesday, April 30, 2019 (EDT).

Time: 12:00 p.m.

ADDRESSES: Barrett and Singal, One Richmond Sq., Suite 165W, Providence, RI 02906.

FOR FURTHER INFORMATION CONTACT: Evelyn Bohor at ero@usccr.gov, or 202-376-7533.

SUPPLEMENTARY INFORMATION: Persons who plan to attend the meeting and who require other accommodations, please contact Evelyn Bohor at ebohor@usccr.gov at least ten (10) working days before the scheduled date of the meeting.

Members of the public are invited to submit written comments; the comments must be received in the regional office by Thursday, May 30, 2019. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

The activities of this advisory committee, including records and documents discussed during the meeting, will be available for public viewing, as they become available at: https://www.facadatabase.gov/FACA/FACAPublicViewCommitteeDetails?id=a10t0000001gzm4AAA. Records generated from this meeting may also be inspected and reproduced at the Eastern Regional Office, as they become available, both before and after the meeting. Persons interested in the work of this advisory committee are advised to go to the Commission's website, www.usccr.gov, or to contact the Eastern Regional Office at the above phone number, email or street address.

Agenda

Tuesday, April 30, 2019; 12:00 p.m. (EDT)

Discussion of Licensing Project

Discussion of Hate Crimes Briefing

Open Comment

Adjourn

Dated: April 9, 2019.
David Mussatt,
Supervisory Chief, Regional Programs Unit.

[FR Doc. 2019-07349 Filed 4-12-19; 8:45 am]

BILLING CODE P